OVERSEAS PRIVATE INVESTMENT CORPORATION

April 17, 2008 Board of Directors Meeting

Time and Date: Thursday, April 17, 2008, 10 a.m. (Open Portion); 10:15 a.m. (Closed Portion).

Place: Offices of the Corporation, Twelfth Floor Board Room, 1100 New York Avenue, NW., Washington, DC.

Status: Meeting Open to the Public from 10 a.m. to 10:15 a.m. Closed portion will commence at 10:15 a.m. (approx.).

Matters To Be Considered

1. President's Report.

2. Approval of January 31, 2008 Minutes (Open Portion).

Further Matters To Be Considered (Closed to the Public 10:15 a.m.)

1. Report from Audit Committee.

2. Finance Project—Jordan.

3. Finance Project—Iraq.

4. Finance Project—Afghanistan.

5. Finance Project—Turkey.

6. Finance Project—Mexico.

7. Finance Project—Africa.

8. Finance Project—Africa.

9. Approval of January 31, 2008 Minutes (Closed Portion).

10. Approval of the March 21, 2008 Minutes (Closed Portion).

11. Pending Major Projects.

12. Reports.

Contact Person for Information: Information on the meeting may be obtained from Connie M. Downs at (202) 336-8438.

Dated: April 3, 2008.
Connie M. Downs,
Corporate Secretary, Overseas Private Investment Corporation.

[FR Doc. E8-7378 Filed 4-8-08; 8:45 am]

BILLING CODE 3210-01-P